DEPARTMENT OF AGRICULTURE

Forest Service

North Mt. Baker-Snoqualmie Resource Advisory Committee (RAC)

AGENCY: Forest Service, USDA.

ACTION: Notice of meetings.

SUMMARY: The North Mt Baker-Snoqualmie Resource Advisory Committee (RAC) will meet twice during the months of March and April 2002. The first meeting is scheduled for Thursday, March 14 at the Skagit County Hearing Room B, 700 South 2nd St., in Mt. Vernon, WA 98273. The second meeting is scheduled for Thursday, April 11, 2002, at the Whatcom Civic Center Building, 322 North Commercial Ave., in Bellingham, WA 98225.

The focus for the March 14th meeting will be the review of projects under consideration for Title II funding under the Secure Rural Schools and Community Self-Determination Act of 2000. The objective of the April 11th meeting will be to continue the project selection process including submission of a prioritized list to the designated Federal Official (Mt. Baker-Snoqualmie National Forest Supervisor) for approval.

All North Mt. Baker-Snoqualmie Resource Advisory Committee meetings are open to the public. Interested citizens are encouraged to attend.

The North Mt. Baker-Snoqualmie Resource Advisory Committee advises Whatcom and Skagit Counties on projects, review project proposals, and makes recommendations to the appropriate USDA official for projects to be funded by Title II dollars. The North Mt. Baker-Snoqualmie Resource Advisory Committee was established to carry out the requirements of the Secure Rural Schools and Community Self-Determination Act of 2000.

FOR FURTHER INFORMATION CONTACT: Direct questions regarding this meeting to Jon Vanderheyden, Designated Federal Official, USDA Forest Service, Mt. Baker-Snoqualmie National Forest, 810 State Route 20, Sedro Woolley, Washington, 98284 (360-856-5700, Extension 201).

Dated: February 20, 2002.
Jon Vanderheyden,
Designated Federal Official.

[FR Doc. 02-4582 Filed 2-26-02; 8:45 am]

BILLING CODE 3410-11-M